DEPARTMENT OF HOUSING AND URBAN DEVELOPMENT

[Docket No. FR-5752-N-109]

Notice of Emergency Approval of an Information Collection: CDBG-DR Expenditure Deadline Waiver Request Template (Pub. L. 113-2 Grantees Only)

AGENCY: Office of the Chief Information Officer, HUD.

ACTION: Notice of proposed information collection.

SUMMARY: The proposed information collection requirement described below has been submitted to the Office of Management and Budget (OMB) for emergency review and approval, as required by the Paperwork Reduction Act. The Department is soliciting public comments on the subject proposal.

DATES: Comments Due Date: January 22, 2015.

ADDRESSES: Interested persons are invited to submit comments regarding this proposal. Comments must be received within seven (30) days from the date of this Notice. Comments should refer to the proposal by name and/or OMB Control Number and should be sent to: HUD Desk Officer, Office of Management and Budget, New Executive Office Building, Washington, DC 20503; fax: 202-395-5806. Email: OIRA_Submission@omb.eop.gov.

FOR FURTHER INFORMATION CONTACT: Colette Pollard, Report Management Officer, QDAM, Department of Housing and Urban Development, 451 7th Street SW., Washington, DC 20410, email at Colette Pollard@hud.gov or telephone 202-402-3400. Persons with hearing or speech impairments may access this number through TTY by calling the toll-free Federal Relay Service at (800) 877-8339. This is not a toll-free number. Copies of available documents submitted to OMB may be obtained from Ms. Pollard.

SUPPLEMENTARY INFORMATION: This notice informs the public that HUD has submitted to OMB a request for approval of the information collection described in Section A.

A. Overview of Information Collection

Title of Information Collection: CDBG-DR Expenditure Deadline Waiver Request Template (Pub. L. 113-2 Grantees Only).

OMB Approval Number: 2506—New.

Type of Request: New collection.

Form Number: NA.

Description of the need for the information and proposed use: This information collection is being conducted by CPD Office of Block Grant Assistance to assist the Administrator of HUD in determining, as required by section 904(c) under Title IX of the Disaster Relief Appropriations Act, 2013 (Pub. L. 113-2, enacted January 29, 2013), whether to grant waivers of the twenty-four month expenditure deadline for grantees (Entitlement communities, States and units of general local governments) receiving funds under the Act.

Respondents (describe): Entitlement communities, Nonprofits, States and units of general local governments with Community Development Block Grant (CDBG) disaster recovery grants pursuant to the Disaster Relief Appropriations Act, 2013 (Pub. L. 113-2). Thirty-four (34) CDBG-DR grantees are held to the 24-month requirement and are thus eligible to submit information through this template to request an extension.

Chart 1—2-Year Expenditure Deadline Waiver Request
Information collection | Number of respondents | Frequency of response | Total responses | Burden hour per response | Total burden hours | Hourly cost per response | Total cost
CDBG-DR Expenditure Deadline Waiver Request Template (Pub. L. 113-2 Grantees Only) | 34 | 3 | 102 | 24 | 2,448 | $24.34 | $59,584.32

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: December 17, 2014.
Colette Pollard,
Departmental Reports Manager.

[FR Doc. 2014-30073 Filed 12-22-14; 8:45 am]

BILLING CODE 4210-67-P